SECURITIES AND EXCHANGE COMMISSION

[File No. 500-1]

Geo Finance Corporation; Order of Suspension of Trading

December 16, 2014.

It appears to the Securities and Exchange Commission that there is a lack of current and accurate information concerning the securities of Geo Finance Corporation (“Geo Finance”) because of concerns regarding the accuracy and adequacy of information in the marketplace and potentially manipulative activity related to Geo Finance common stock. Geo Finance is a Florida corporation with its principal place of business located in Toronto, Ontario, Canada. Its stock is quoted on OTC Link, (previously “Pink Sheets”) operated by OTC Markets Group Inc., under the ticker symbol: GEFI.

The Commission is of the opinion that the public interest and the protection of investors require a suspension of trading in the securities of the above-listed company.

Therefore, it is ordered, pursuant to Section 12(k) of the Securities Exchange Act of 1934, that trading in the securities of the above-listed company is suspended for the period from 9:30 a.m. EST, on December 16, 2014 through 11:59 p.m. EST, on December 30, 2014.

By the Commission.
Jill M. Peterson,
Assistant Secretary.

[FR Doc. 2014-29729 Filed 12-16-14; 11:15 am]

BILLING CODE 8011-01-P